DEPARTMENT OF TRANSPORTATION

Federal Aviation Administration

14 CFR Part 71

[Docket No. FAA-2017-0210; Airspace Docket No. 17-AGL-10]

Amendment of Class D and E Airspace; Kenosha, WI

AGENCY: Federal Aviation Administration (FAA), DOT.

ACTION: Final rule.

SUMMARY: This action modifies Class D airspace, Class E airspace designated as a surface area, and Class E airspace extending upward from 700 feet above the surface, and removes Class E airspace designated as an extension of Class D airspace at Kenosha Regional Airport, Kenosha, WI. This action is required due to the decommissioning of the Kenosha VHF omnidirectional range (VOR), which provided navigation guidance for portions of the affected routes. This action enhances the safety and management of instrument flight rules (IFR) operations at the airport. Also, the airport name and geographic coordinates are adjusted in the Class E airspace extending upward from 700 feet above the surface.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D airspace, Class E airspace designated as a surface area, and Class E airspace extending upward from 700 feet above the surface, and removes Class E airspace designated as an extension of Class D airspace at Kenosha Regional Airport, Kenosha, WI.

History

On May 19, 2017, the FAA published in the Federal Register (82 FR 22922) Docket No. FAA-2017-0210, a notice of proposed rulemaking (NPRM) to modify Class D airspace, Class E airspace designated as a surface area, and Class E airspace extending upward from 700 feet above the surface, and remove Class E airspace designated as an extension of Class D airspace at Kenosha Regional Airport, Kenosha, WI. Interested parties were invited to participate in this rulemaking effort by submitting written comments on the proposal to the FAA. No comments were received.

Subsequent to publication, the FAA determined that the exclusionary language contained in the Class E airspace extending upward from 700 feet above the surface airspace description is no longer required and has been removed in this action. Additionally, a typographical error was made in the geographic coordinates for the airport in the Class E airspace extending upward from 700 feet above the surface airspace description and has been corrected in this action.

Except for the changes noted above, this final rule is the same as published in the NPRM.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71:

Modifies the Class D airspace to within a 4.2-mile radius (increased from a 4.1-mile radius) of Kenosha Regional Airport, Kenosha, WI;

Modifies the Class E airspace designated as a surface area to within a 4.2-mile radius (increased from a 4.1-mile radius) of Kenosha Regional Airport, and removes the Kenosha VOR and the 7-mile extension northeast of the airport;

Removes the Class E airspace designated as an extension to Class D airspace at Kenosha Regional Airport; and

Modifies the Class E airspace extending upward from 700 feet above the surface to within a 6.7-mile radius (reduced from a 7-mile radius) of Kenosha Regional Airport (formerly Kenosha Municipal Airport), with an extension from the Kenosha Localizer to 10 miles west of the localizer, and updates the name and geographic coordinates of the airport to coincide with the FAA's aeronautical database.

Airspace reconfiguration is necessary due to the decommissioning of the Kenosha VOR and to bring the airspace in compliance with FAA Order JO 7400.2L, Procedures for Handling Airspace Matters, at this airport. Controlled airspace is necessary for the safety and management of standard instrument approach procedures for IFR operations at the airport.

Additionally, this action replaces the outdated term Airport/Facility Directory with the term Chart Supplement in the Class D and Class E surface area airspace legal descriptions.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

AGL WI D Kenosha, WI [Amended]

Kenosha Regional Airport, WI

(Lat. 42°35′45″ N., long. 87°55′40″ W.)

That airspace extending upward from the surface to and including 3,200 feet within a 4.2-mile radius of Kenosha Regional Airport. This Class D airspace area is effective during the specific dates and times established in advance by Notice to Airmen. The effective date and time will thereafter be continuously published in the Chart Supplement.

* * * * *

Paragraph 6002 Class E Airspace Designated as Surface Areas.

* * * * *

AGL WI E2 Kenosha, WI [Amended]

Kenosha Regional Airport, WI

(Lat. 42°35′45″ N., long. 87°55′40″ W.)

That airspace extending upward from the surface to and including 3,200 feet within a 4.2-mile radius of Kenosha Regional Airport. This Class E airspace area is effective during the specific dates and times established in advance by Notice to Airmen. The effective date and time will thereafter be continuously published in the Chart Supplement.

* * * * *

Paragraph 6004 Class E Airspace Area Designated as an Extension of Class D Airspace.

* * * * *

AGL WI E4 Kenosha, WI [Removed]

* * * * *

Paragraph 6005 Class E Airspace Areas Extending Upward From 700 Feet or More Above the Surface of the Earth.

* * * * *

AGL WI E5 Kenosha, WI [Amended]

Kenosha Regional Airport, WI

(Lat. 42°35′45″ N., long. 87°55′40″ W.)

Kenosha Localizer

(Lat. 42°36′04″ N., long. 87°55′11″ W.)

That airspace extending upward from 700 feet above the surface within a 6.7-mile radius of Kenosha Regional Airport, and within 9.9 miles north and 5.9 miles south of a 246° bearing from the Kenosha Localizer to 10 miles west of the Kenosha Localizer.

Issued in Fort Worth, Texas, on July 24, 2017.
Walter Tweedy,
Acting Manager, Operations Support Group, ATO Central Service Center.

[FR Doc. 2017-16098 Filed 7-31-17; 8:45 am]

BILLING CODE 4910-13-P